DEPARTMENT OF ENERGY

Notice of Request for Information (RFI) on Marine Sciences Laboratory

AGENCY: Office of Energy Efficiency and Renewable Energy, Department of Energy (DOE).

ACTION: Request for information (RFI).

SUMMARY: The U.S. Department of Energy (DOE) invites public comment on the Marine Sciences Laboratory Request for Information (RFI). This RFI is seeking feedback addressing the growing Research and Development (R&D) interest in the use of the Department of Energy's Pacific Northwest National Laboratory (PNNL) Marine Sciences Laboratory (MSL) facilities for renewable energy, maritime markets, and energy storage research, technology development and testing. This information will help DOE and PNNL prioritize resources and investments at the MSL.

DATES: Responses to the RFI must be received by no later than 5:00 p.m. (ET) on July 31, 2019.

ADDRESSES: Interested parties should submit comments electronically to WPTORFI@ee.doe.gov. Include Marine Sciences Laboratory Request for Information in the subject line. Responses must be provided as attachments to an email. It is recommended that attachments with file size exceeding 25 MB be compressed (i.e., zipped) to ensure message delivery. The complete RFI document is located at https://eere-exchange.energy.gov/.

FOR FURTHER INFORMATION CONTACT: Questions may be addressed to WPTORFI@ee.doe.gov or Carrie Noonan, Technical Project Officer, 240-562-1644. Further instruction can be found in the RFI document posted on EERE Exchange at https://eere-exchange.energy.gov/ under DE-FOA-0002123.

SUPPLEMENTARY INFORMATION: Pacific Northwest National Laboratory's (PNNL) Marine Sciences Laboratory (MSL), located in Washington State, is the U.S. Department of Energy's (DOE) only marine research facility. The laboratory helps the Nation achieve sustainable energy, a healthy environment, and robust security in coastal settings. The purpose of this request for information is to solicit feedback from industry, academia, other national laboratories, government agencies, and private entities regarding the use of this unique DOE marine laboratory as a research, development, testing, and validation venue supporting multiple DOE missions as they relate to the coastal and ocean environment.

Confidential Business Information

Pursuant to 10 CFR 1004.11, any person submitting information that he or she believes to be confidential and exempt by law from public disclosure should submit via email two well marked copies: One copy of the document marked “confidential” including all the information believed to be confidential, and one copy of the document marked “non-confidential” with the information believed to be confidential deleted. DOE will make its own determination about the confidential status of the information and treat it according to its determination.

Factors of interest to DOE when evaluating requests to treat submitted information as confidential include: (1) A description of the items, (2) whether and why such items are customarily treated as confidential within the industry, (3) whether the information is generally known by or available from other sources, (4) whether the information has previously been made available to others without obligation concerning its confidentiality, (5) an explanation of the competitive injury to the submitting person that would result from public disclosure, (6) when such information might lose its confidential character due to the passage of time, and (7) why disclosure of the information would be contrary to the public interest.

Signed in Washington, DC, on May 30, 2019.
Alejandro Moreno,
Director, Water Power Technology Office.

[FR Doc. 2019-12262 Filed 6-10-19; 8:45 am]

BILLING CODE 6450-01-P